ENVIRONMENTAL PROTECTION AGENCY

[EPA-HQ-OW-2007-0266; FRL-8445-8]

Agency Information Collection Activities; Submission to OMB for Review and Approval; Comment Request; Proficiency Testing Studies for Drinking Water Laboratories, EPA ICR No. 2264.01, OMB Control No. 2040-New

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before August 27, 2007.

ADDRESSES: Submit your comments, referencing Docket ID No. EPA-HQ-OW-2007-0266, to (1) EPA online using www.regulations.gov (our preferred method), by e-mail to OW-Docket@epa.gov, or by mail to: EPA Docket Center, Environmental Protection Agency, Water Docket, Mail Code 2822T, 1200 Pennsylvania Avenue, NW., Washington, DC 20460, Attention Docket ID No. EPA-HQ-OW-2007-0266, and (2) OMB by mail to: Office of Information and Regulatory Affairs, Office of Management and Budget (OMB), Attention: Desk Officer for EPA, 725 17th Street, NW., Washington, DC 20503.

FOR FURTHER INFORMATION CONTACT: David J. Munch, Technical Support Center, Office of Ground Water and Drinking Water, United States Environmental Protection Agency, Office of Water, 26 West Martin Luther King Drive (MS 140), Cincinnati, OH 45268; telephone (513) 569-7843; e-mail address munch.dave@epa.gov. For general information, contact the Safe Drinking Water Hotline. Callers within the United States may reach the Hotline at (800) 426-4791. The Hotline is open Monday through Friday, excluding legal holidays, from 8:30 a.m. to 4:30 p.m., Eastern Time.

SUPPLEMENTARY INFORMATION: EPA has submitted the following ICR to OMB for review and approval according to the procedures prescribed in 5 CFR 1320.12. On May 3, 2007 (72 FR 24582), EPA sought comments on this ICR pursuant to 5 CFR 1320.8(d). EPA received no comments during the comment period. Any additional comments on this ICR should be submitted to EPA and OMB within 30 days of this notice.

EPA has established a public docket for this ICR under Docket ID No. EPA-HQ-OW-2007-0266, which is available for online viewing at http://www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Proficiency Testing Studies for Drinking Water Laboratories.

ICR numbers: EPA ICR No. 2264.01, OMB Control No. 2040-New.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Proficiency Testing (PT) studies provide an objective demonstration that participating laboratories are capable of producing valid data for monitored pollutants. PT studies that relate to drinking water analyses are mandated under 40 CFR 141.23(k)(3), 141.24(f)(17) and 141.131(b)(2). EPA initiated these studies and originally administered them as part of the Agency's mandate to assure the quality of environmental monitoring data. Subsequently, all of these studies were privatized. PT vendors manufacture and distribute samples to the participating laboratories who then submit their analytical results to these vendors for evaluation. The PT vendors then send evaluations of the submitted data to the laboratory and any other designated certifying/accrediting authority.

Burden Statement: The annual public reporting and recordkeeping burden for this collection of information is estimated to average 7.32 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Drinking Water Laboratories.

Estimated Number of Respondents: 2,363.

Frequency of Response: Annually.

Estimated Total Annual Hour Burden: 17,291.

Estimated Total Annual Cost: $1,803,343, which includes $908,055 annualized capital or O&M costs and $895,288 in labor costs.

Changes in the Estimates: Since this is a new information collection request, there is no currently-approved burden. However, as this collection does exist under another expiring ICR (Performance Evaluation Studies of Water and Wastewater Laboratories (OMB Control No. 2080-0021, EPA ICR No. 0234.08)), the requested burden under this ICR effectively offsets the decrease in burden in the currently-approved ICR from which it is being removed.

Dated: July 19, 2007.
Sara Hisel-McCoy,
Acting Director, Collection Strategies Division.

[FR Doc. E7-14482 Filed 7-25-07; 8:45 am]

BILLING CODE 6560-50-P